DEPARTMENT OF JUSTICE

United States Parole Commission

Public Announcement; Sunshine Act Meeting

Pursuant To The Government In The Sunshine Act (Pub. L. 94-409) [5 U.S.C. 552b].

Time and Date: 9:30 a.m., Thursday, November 16, 2006.

Place: 5550 Friendship Blvd., Fourth Floor, Chevy Chase, MD 20815.

Matters to Be Considered: The following matters have been placed on the agenda for the open Parole Commission meeting:

1. Approval of Minutes of Previous Commission Meeting.

Agency Contact: Thomas W. Hutchison, Chief of Staff, United States Parole Commission. (301) 492-5990.

Dated: November 9, 2006.
Rockne Chickinell,
General Counsel, U.S. Parole Commission.

[FR Doc. 06-9217 Filed 11-13-06; 10:24 am]

BILLING CODE 4410-31-M